DEPARTMENT OF HEALTH AND HUMAN SERVICES

Health Resources and Services Administration

Agency Information Collection Activities: Submission to OMB for Review and Approval; Public Comment Request

ACTION: Notice.

SUMMARY: In compliance with section 3506(c)(2)(A) of the Paperwork Reduction Act of 1995 (44 U.S.C. Chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Reports Clearance Office at (301) 443-1984.

Information Collection Request Title: Telehealth Resource Center Performance Measurement Tool (OMB No. 0915-xxxx)—NEW.

Abstract: In order to ensure the best use of public funds and to meet GPRA requirements, the Office for the Advancement of Telehealth (OAT) in collaboration with Telehealth Resource Centers (TRCs) has developed a set of performance metrics to evaluate the technical assistance services provided by the TRCs. The TRC Performance Indicator Data Collection Tool contains the data elements that would need to be collected by TRCs in order to report on the performance metrics. This tool can be easily translated into a web-based data collection system (PIMS). Also, it will allow the TRCs to report to OAT around their projects' performance progress and will allow OAT to demonstrate to Congress the value added from the TRC Grant Program.

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

The annual estimate of burden is as follows:

Form name | Number of respondents | Responses per respondent | Total responses | Hours per response | Total burden hours
Telehealth Resource Center Performance Data Collection | 10 | 76 | 760 | 0.07 | 53
Total | 10 | 76 | 760 | 0.07 | 53

ADDRESSES: Submit your comments to the desk officer for HRSA, either by email to OIRA_submission@omb.eop.gov or by fax to 202-395-5806. Please direct all correspondence to the “attention of the desk officer for HRSA.”

Deadline: Comments on this ICR should be received within 30 days of this notice.

Dated: December 28, 2012.
Bahar Niakan,
Director, Division of Policy and Information Coordination.

[FR Doc. 2013-00292 Filed 1-9-13; 8:45 am]

BILLING CODE 4165-15-P